DEPARTMENT OF THE INTERIOR

Bureau of Land Management

[LLORV00000.L10200000.XZ0000.LXSSH1050000.20X.HAG 20-0088]

Notice of Public Meeting for the John Day-Snake Resource Advisory Council Planning Subcommittee and the John Day-Snake Resource Advisory Council

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) Planning Subcommittee and John Day-Snake RAC will meet as indicated below.

DATES: The John Day-Snake RAC Planning Subcommittee will meet at 6 p.m. PST Thursday, December 10, 2020, via Zoom conference. The John Day-Snake RAC will meet Thursday and Friday, February 18 and 19, 2021, starting at 1 p.m. PST Thursday, February 18, and 8 a.m. PST Friday, February 19. A public comment period will be offered both days of the meeting.

ADDRESSES: The Planning Subcommittee Zoom meeting details will be published on the RAC web page at least 10 days in advance of the meeting at https://www.blm.gov/get-involved/resource-advisory-council/near-you/oregon-washington/john-day-rac. The RAC meeting on February 18-19, 2021, will be held at the Prineville BLM offices, 3050 NE 3rd Street, Prineville, OR 97754. A virtual option may be offered for this meeting if public health restrictions are in place. Further details will be available at https://www.blm.gov/get-involved/resource-advisory-council/near-you/oregon-washington/john-day-rac.

FOR FURTHER INFORMATION CONTACT: Larisa Bogardus, Public Affairs Officer, 3100 H Street, Baker City, OR 97814; 541-219-6863; lbogardus@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The 15-member John Day-Snake RAC was chartered and appointed by the Secretary of the Interior. Their diverse perspectives are represented in commodity, conservation, and general interests. They provide advice to the BLM and, as needed, to the U.S. Forest Service resource managers regarding management plans and proposed resource actions on public land in the John Day-Snake area.

The Planning Subcommittee was established to gather information, conduct research, and analyze relevant issues and facts on selected topics for future consideration by the RAC. The Subcommittee's primary goal is to provide information to the RAC members that allows them to better respond to time-sensitive issues, such as responding to an environmental document within the public comment period. No decisions are made at the subcommittee level.

Standing RAC meeting agenda items include management of energy and minerals, timber, rangeland and grazing, commercial and dispersed recreation, wildland fire and fuels, and wild horses and burros; review of and/or recommendations regarding proposed actions by Vale or Prineville BLM districts and the Wallowa-Whitman, Umatilla, Malheur, Ochoco, and Deschutes National Forests; and any other business that may reasonably come before the RAC.

Information to be distributed to the RAC is requested prior to the start of each meeting. Final agendas will be posted online at https://www.blm.gov/get-involved/resource-advisory-council/near-you/oregon-washington/john-day-rac at least one week prior to the meeting.

The Designated Federal Officer attends all calls and meetings, takes minutes, and publishes these minutes on the RAC web page at https://www.blm.gov/get-involved/resource-advisory-council/near-you/oregon-washington/john-day-rac.

All calls and meetings are open to the public in their entirety. The public may send written comments to the subcommittee and RAC in response to material presented. Comments can be mailed to: BLM Vale District; Attn. Don Gonzalez; 100 Oregon Street; Vale, OR 97918.

Public Disclosure of Comments: Before including your address, phone number, email address, or other personal identifying information in your comments, please be aware that your entire comment—including your personal identifying information—may be made publicly available at any time. While you can ask us in your comment to withhold your personal identifying information from public review, we cannot guarantee we will be able to do so.

Authority: 43 CFR 1784.4-2.

Donald N. Gonzalez,
Vale District Manager.

[FR Doc. 2020-23549 Filed 10-22-20; 8:45 am]

BILLING CODE 4310-33-P